DEPARTMENT OF HOMELAND SECURITY

Coast Guard

33 CFR Part 100

[Docket No. USCG-2016-0859]

Special Local Regulations; Savannah Harbor Boat Parade of Lights and Fireworks, Savannah River

AGENCY: Coast Guard, DHS.

ACTION: Notice of enforcement of regulation.

SUMMARY: The Coast Guard will enforce the Savannah Harbor Boat Parade of Lights and Fireworks Special Local Regulation from 5 p.m. through 10 p.m. on November 26, 2016. This action is necessary to ensure safety of life on navigable waters of the United States during the Savannah Harbor Boat Parade of Lights and Fireworks displays. During the enforcement period, and in accordance with previously issued special local regulations, no person or vessel may enter, transit through, anchor in, or remain within the designated area unless authorized by the Captain of the Port Savannah or a designated representative.

DATES: The regulation in 33 CFR 100.701, Table to § 100.71, Item (f)4 will be enforced from 5 p.m. until 10 p.m. on November 26, 2016.

FOR FURTHER INFORMATION CONTACT: If you have questions about this notice of enforcement, call or email MST1 Cliffton Hendry, Marine Safety Unit Savannah Office of Waterways Management, Coast Guard; telephone 912-652-4353, extension 243, or email Cliffton.R.Hendry@uscg.mil.

SUPPLEMENTARY INFORMATION: The Coast Guard will enforce the special local regulation for the Savannah Habor Parade of Lights and Fireworks in 33 CFR 100.701, Table to § 100.71, Item (f)4 from 5 p.m. until 10 p.m. on November 26, 2016.

Under the provisions of 33 CFR 100.701, all persons and vessels are prohibited from entering the regulated area unless they receive permission to do so from the Captain of the Port Savannah, or designated representatives. This action is to provide enforcement action of regulated area that will encompass the entire Savannah River in Savannah, GA beginning at the Talmadge Bridge near River Street, coordinates 32°05′20″ N., 081°05′56.3″ W., and proceeding down river to a line drawn at 146 degrees true from day board 62, approximate coordinates are: 32°04′48.7″ N., 081° 04′47.9″ W.

Spectator vessels may safely transit outside the regulated area, but may not anchor, block, loiter in, impede the transit of festival participants or official patrol vessels or enter the regulated area without approval from the Captain of the Port Savannah or a designated representative. The Coast Guard may be assisted by other Federal, State, or local law enforcement agencies in enforcing this regulation.

This notice of enforcement is issued under authority of 33 CFR 100.701 and 5 U.S.C. 552 (a). In addition to this notice of enforcement in the Federal Register, the Coast Guard will provide notice of the regulated area by Local Notice to Mariners, Broadcast Notice to Mariners, and on-scene designated representatives.

Dated: September 14, 2016.
A.M. Beach,
Commander, U.S. Coast Guard, Captain of the Port, Savannah.

[FR Doc. 2016-25600 Filed 10-21-16; 8:45 am]

BILLING CODE 9110-04-P